DEPARTMENT OF ENERGY

10 CFR Part 600

RIN 1991-AB77

Assistance Regulations

AGENCY: Department of Energy.

ACTION: Proposed rule; reopening of comment period.

SUMMARY: The Department of Energy (DOE) published on May 16, 2008, a proposed rule concerning its financial assistance regulation. That proposed rule included a recodification of 10 CFR part 600. However, DOE inadvertently omitted one phrase from the existing part 600. This action will afford interested members of the public the opportunity to comment on the continued inclusion of this phrase in DOE's financial assistance regulations.

DATES: Comments may be submitted on or before May 19, 2009.

ADDRESSES: Comments may be submitted online at http://www.regulations.gov. Comments may also be submitted by e-mail to jacqueline.kniskern@hq.doe.gov. Comments may be mailed to: Jacqueline Kniskern, Procurement Policy Analyst, MA-61 Forrestal Building, U.S. Department of Energy, 1000 Independence Avenue, SW., Washington, DC 20585. Electronic submissions are encouraged.

FOR FURTHER INFORMATION CONTACT: Ms. Jacqueline Kniskern, Office of Procurement and Assistance Policy, U.S. Department of Energy, at 202-287-1342, or by e-mail at jacqueline.kniskern@hq.doe.gov.

SUPPLEMENTARY INFORMATION: On May 16, 2008, DOE published in the Federal Register a notice of proposed rulemaking (NOPR) to amend its assistance regulations in 10 CFR part 600. (73 FR 28385) The notice proposed to amend part 600 consistent with The Energy Policy Act of 2005, to further implement the Federal Financial Assistance Management Improvement Act of 1999, and to make technical corrections. The changes to part 600 are intended to simplify procedures for soliciting, awarding, and administering DOE's financial assistance agreements. The comment period for the proposed rule closed on July 15, 2008. DOE received no comments.

The May 16 NOPR set out the portions of part 600 that were to be amended including the entirety of 10 CFR 600.6. As it appeared in the NOPR, the text of § 600.6(c) omitted the phrase “or technology investment agreement” from the introductory language. (73 FR 28389) That phrase appears in the current version of 10 CFR 600.6(c) and DOE did not intend to propose that it be removed from the assistance regulation.

DOE intends to include the phrase “or technology investment agreement” in § 600.6(c) of a final rule. Given that neither the removal nor the inclusion of the phrase was mentioned in the May 16 NOPR and recognizing that the May 16 version of § 600.6 omitted the phrase “or technology investment agreement” DOE is providing a fifteen day period for interested parties to submit comments. This opportunity to comment is limited to submissions addressing the exclusion or inclusion of the phrase “or technology investment agreement” in a final version of the introductory language of § 600.6(c), as that phrase appears in the current version of 10 CFR 600.6(c).

Issued in Washington, DC on April 24, 2009.
Edward R. Simpson,
Director, Office of Procurement and Assistance Management Department of Energy.
David O. Boyd,
Director, Office of Acquisition and Supply Management, Office of Management, National Nuclear Security Administration.

[FR Doc. E9-10158 Filed 5-1-09; 8:45 am]

BILLING CODE 6450-01-P